DEPARTMENT OF ENERGY

Federal Energy Regulatory Commission

Combined Notice of Filings #1

Take notice that the Commission received the following electric corporate filings:

Docket Numbers: EC23-12-000.

Applicants: Uniper Global Commodities North America LLC.

Description: Application for Authorization Under Section 203 of the Federal Power Act of Uniper Global Commodities North America, LLC.

Filed Date: 10/25/22.

Accession Number: 20221025-5198.

Comment Date: 5 p.m. ET 11/15/22.

Docket Numbers: EC23-13-000.

Applicants: AEP Oklahoma Transmission Company, Inc., Caddo Wind, LLC.

Description: Joint Application for Authorization Under Section 203 of the Federal Power Act of Caddo Wind, LLC, et al.

Filed Date: 10/26/22.

Accession Number: 20221026-5189.

Comment Date: 5 p.m. ET 11/16/22.

Take notice that the Commission received the following exempt wholesale generator filings:

Docket Numbers: EG23-14-000.

Applicants: Daggett Solar Power 1 LLC.

Description: Daggett Solar Power 1 LLC submits Notice of Self-Certification of Exempt Wholesale Generator Status.

Filed Date: 10/26/22.

Accession Number: 20221026-5081.

Comment Date: 5 p.m. ET 11/16/22.

Docket Numbers: EG23-15-000.

Applicants: Daggett Solar Power 2 LLC.

Description: Daggett Solar Power 2 LLC submits Notice of Self-Certification of Exempt Wholesale Generator Status.

Filed Date: 10/26/22.

Accession Number: 20221026-5105.

Comment Date: 5 p.m. ET 11/16/22.

Take notice that the Commission received the following electric rate filings:

Docket Numbers: ER16-2483-001.

Applicants: Mountain View Power Partners, LLC.

Description: Notice of Change in Status of Mountain View Power Partners, LLC.

Filed Date: 10/25/22.

Accession Number: 20221025-5200.

Comment Date: 5 p.m. ET 11/15/22.

Docket Numbers: ER21-2156-002.

Applicants: Antelope Expansion 1B, LLC.

Description: Notice of Change in Status of Antelope Expansion 1B, LLC.

Filed Date: 10/25/22.

Accession Number: 20221025-5201.

Comment Date: 5 p.m. ET 11/15/22.

Docket Numbers: ER22-2494-000.

Applicants: FirstEnergy Service Company.

Description: FirstEnergy Service Company submits Supplement to the Request for Limited Waiver of Affiliate Rules submitted on July 25, 2022.

Filed Date: 10/14/22.

Accession Number: 20221014-5251.

Comment Date: 5 p.m. ET 11/7/22.

Docket Numbers: ER22-2966-001.

Applicants: Public Service Company of New Mexico.

Description: Tariff Amendment: Motion for Leave to Answer and Answer of PNM and Supplement to Filing to be effective 10/1/2022.

Filed Date: 10/20/22.

Accession Number: 20221020-5173.

Comment Date: 5 p.m. ET 11/10/22.

Docket Numbers: ER22-484-001; ER21-2217-004.

Applicants: Lincoln Land Wind, LLC, Ford County Wind Farm LLC.

Description: Notice of Change in Status of Ford County Wind Farm LLC, et al.

Filed Date: 10/25/22.

Accession Number: 20221025-5199.

Comment Date: 5 p.m. ET 11/15/22.

Docket Numbers: ER23-190-000.

Applicants: Southwest Power Pool, Inc.

Description: § 205(d) Rate Filing: 3987 City of New Madrid, Missouri NITSA NOA to be effective 10/1/2022.

Filed Date: 10/26/22.

Accession Number: 20221026-5039.

Comment Date: 5 p.m. ET 11/16/22.

Docket Numbers: ER23-191-000.

Applicants: Midcontinent Independent System Operator, Inc.

Description: § 205(d) Rate Filing: 2022-10-26_SA 3143 Termination of Blazing Star-NSPM E&P (J460) to be effective 10/27/2022.

Filed Date: 10/26/22.

Accession Number: 20221026-5048.

Comment Date: 5 p.m. ET 11/16/22.

Docket Numbers: ER23-192-000.

Applicants: Midcontinent Independent System Operator, Inc.

Description: § 205(d) Rate Filing: 2022-10-26_SA 3145 Termination of Heartland Wind-NSPM E&P (J432) to be effective 10/27/2022.

Filed Date: 10/26/22.

Accession Number: 20221026-5055.

Comment Date: 5 p.m. ET 11/16/22.

Docket Numbers: ER23-193-000.

Applicants: Wisconsin Power and Light Company.

Description: § 205(d) Rate Filing: WPL Administrative Changes to Depr Rates and Formula Rate Schedules to be effective 12/25/2022.

Filed Date: 10/26/22.

Accession Number: 20221026-5077.

Comment Date: 5 p.m. ET 11/16/22.

Docket Numbers: ER23-194-000.

Applicants: Basin Electric Power Cooperative.

Description: § 205(d) Rate Filing: Basin Electric Power Cooperative, Submission of Revised Rate Schedule A to be effective 1/1/2023.

Filed Date: 10/26/22.

Accession Number: 20221026-5108.

Comment Date: 5 p.m. ET 11/16/22.

Docket Numbers: ER23-195-000.

Applicants: Blooming Grove Wind Energy Center LLC.

Description: § 205(d) Rate Filing: Revisions to Market-Based Rate Tariff to Reflect Change in Seller Categories to be effective 12/26/2022.

Filed Date: 10/26/22.

Accession Number: 20221026-5115.

Comment Date: 5 p.m. ET 11/16/22.

Docket Numbers: ER23-197-000.

Applicants: ISO New England Inc., Central Maine Power Company, Versant Power, Eversource Energy Service Company (as agent), Green Mountain Power Corporation, New England Power Company, Fitchburg Gas and Electric Light Company, New Hampshire Transmission, LLC, Vermont Transco LLC.

Description: § 205(d) Rate Filing: ISO New England Inc. submits tariff filing per 35.13(a)(2)(iii: Proposed Rev to Attachment F to Comply w/IRS's Depreciation Normalization Req. to be effective 1/1/2023.

Filed Date: 10/26/22.

Accession Number: 20221026-5126.

Comment Date: 5 p.m. ET 11/16/22.

Docket Numbers: ER23-198-000.

Applicants: Idaho Power Company.

Description: Compliance filing: Compliance Filing for Order No. 676-J to be effective N/A.

Filed Date: 10/26/22.

Accession Number: 20221026-5129.

Comment Date: 5 p.m. ET 11/16/22.

Docket Numbers: ER23-199-000.

Applicants: PJM Interconnection, L.L.C.

Description: § 205(d) Rate Filing: Original ISA, Service Agreement No. 6668; Queue No. AE2-282 to be effective 9/26/2022.

Filed Date: 10/26/22.

Accession Number: 20221026-5171.

Comment Date: 5 p.m. ET 11/16/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 26, 2022.
Debbie-Anne A. Reese,
Deputy Secretary.

[FR Doc. 2022-23765 Filed 10-31-22; 8:45 am]

BILLING CODE 6717-01-P